ENVIRONMENTAL PROTECTION AGENCY

[FRL-9117-4]

Notice of a Regional Project Waiver of Section 1605 (Buy American) of the American Recovery and Reinvestment Act of 2009 (ARRA) to the Old Town Water District in Old Town, ME

AGENCY: Environmental Protection Agency (EPA).

ACTION: Notice.

SUMMARY: The EPA is hereby granting a waiver of the Buy America requirements of ARRA Section 1605 under the authority of Section 1605(b)(1) [inconsistent with the public interest] to the Old Town Water District (“Town”) in Old Town, Maine for the purchase of GreensandPlus pressure filter media, manufactured in Brazil, for two of the 12 foot diameter filters. This is a project specific waiver and only applies to the use of the specified product for the ARRA project being proposed. Any other ARRA recipient that wishes to use the same product must apply for a separate waiver based on project specific circumstances. The Town evaluated three different types of pressure filter media during a pilot test in April of 2008 and, well before the enactment of ARRA, selected GreensandPlus filter media. The media was purchased for the first two of four filter beds in October 2008, when the price of the media was determined for all four beds. The media was installed in two of the filter beds in January 2009. The ARRA funded project is for the other two filter beds in the Old Town Water District system. If an alternate domestic filter media were to be installed in the remaining two filter beds, the Maine Drinking Water Program would require replacement of the underdrain and associated piping, which would increase the cost of the project from $40,019 to $86,405. Based upon information submitted by the Town, its consulting engineer, and the Maine Department of Health and Human Services (MEDHHS), EPA has concluded that, under these circumstances, requiring the installation of an alternative domestic filter media would be inconsistent with the public interest, and that a waiver of the Buy American provisions is justified. The Regional Administrator is making this determination based on the review and recommendations of the Municipal Assistance Unit. The Assistant Administrator of the Office of Administration and Resources Management has concurred on this decision to make an exception to the requirements of Section 1605(a) of ARRA. This action permits the purchase of GreensandPlus pressure filter media, as specified in its November 7, 2009 request.

DATES: Effective Date: February 12, 2010.

FOR FURTHER INFORMATION CONTACT: Katie Connors, Environmental Engineer, (617) 918-1658, or, David Chin, Environmental Engineer, (617) 918-1764, Municipal Assistance Unit (CMU), Office of Ecosystem Protection (OEP), U.S. EPA, 5 Post Office Square, Suite 100, Boston, MA 02109-3912.

SUPPLEMENTARY INFORMATION: In accordance with ARRA Section 1605(c), the EPA hereby provides notice that it is granting a project waiver of the requirements of Section 1605(a) of Public Law 111-5, Buy American requirements, to the Old Town Water District (Town) in Old Town, Maine for the purchase of non-domestic GreensandPlus pressure filter media for two 12 foot diameter filters. EPA has evaluated the Town's basis for procuring the GreensandPlus pressure filter media for these filters. Based on the information provided by the applicant and the State of Maine, EPA has determined that it is inconsistent with the public interest for the Town to pursue the purchase of domestically manufactured filter media.

Section 1605 of the ARRA requires that none of the appropriated funds may be used for the construction, alteration, maintenance, or repair of a public building or a public works project unless all of the iron, steel, and manufactured goods used in the project is produced in the United States, or unless a waiver is provided to the recipient by the head of the appropriate agency, here the EPA. A waiver may be provided under Section 1605(b) if EPA determines that (1) applying these requirements would be inconsistent with the public interest; (2) iron, steel, and the relevant manufactured goods are not produced in the United States in sufficient and reasonably available quantities and of a satisfactory quality; or (3) inclusion of iron, steel, and the relevant manufactured goods produced in the United States will increase the cost of the overall project by more than 25 percent.

The Town is requesting a waiver of the Buy American provision for the GreensandPlus filter media for two 12 foot diameter filters. At the Town's water treatment plant, there are four filter beds. In April of 2008, the Town performed a pilot study of three different pressure filter media. Well before the enactment of ARRA, they selected GreensandPlus media—which is manufactured in Brazil—because it was more appropriate for the configuration of the Old Town Water District system. The GreensandPlus media was purchased for the first two filter beds in October 2008, when the price was locked in for all four filter beds. The media was installed in January 2009 for the first of the filter beds. The ARRA funded project to the Town is for the installation of the GreensandPlus media for iron and manganese removal in the remaining two filter beds.

Detailed evaluation of all of the submitted documentation by, and extensive discussions among EPA's technical review team, the EPA program office, and EPA's national contractor established that the Maine Drinking Water Program, in the MEDHHS, would require replacement of the existing underdrain and associated piping if either of the other two filter media that were pilot tested—one of which may be domestically-produced—were used in the project. This would result in an increase in the project cost from $40,019 to $86,405 for the two filter beds. Due to the existing backwash piping configuration, a lower backwash rate is needed which could be attained by the GreensandPlus filter media without replacement of the underdrain or piping.

The Maine Drinking Water Program is the primary enforcement authority responsible for ensuring that all Public Water Systems (PWS) in the State regulated under the Safe Drinking Water Act comply with all National Primary Drinking Water Regulations (NPDWR). Implementation of the determination by such an authority that specific facility configurations or operating conditions are required for compliance with NPDWRs is obligatory for a PWS.

Thus, the use of domestic filter media would require replacement of the underdrain and associated piping which would double the cost of the project. In addition, the evaluation of the supporting documentation also demonstrated that the foreign filter media will be able to meet the proposed project design and specifications with no additional cost to the Town.

Furthermore, the purpose of the ARRA is to stimulate economic recovery by funding current infrastructure construction, not to delay or require the substantial redesign of projects that are “shovel ready,” such as this project of the Old Town Water District. The imposition of ARRA Buy American requirements in this case would result in unreasonable additional cost for this project and substantial delay in its completion. Such delay would also directly conflict with a fundamental economic purpose of ARRA, which is to create or retain jobs.

The Municipal Assistance Unit (CMU) has reviewed this waiver request and has determined that the supporting documentation provided by the Town established a proper basis to specify that using the domestic manufactured good would be inconsistent with the public interest of the Town. The MEDHHS concluded that using a domestic filter media would require replacement of the underdrain and associated piping and subsequently significantly increase the project cost. The information provided is sufficient to meet the following criteria listed under Section 1605(b)(1) of the ARRA and in the April 28, 2009 Memorandum: Applying these requirements would be inconsistent with the public interest.

The March 31, 2009 Delegation of Authority Memorandum provided Regional Administrators with the temporary authority to issue exceptions to Section 1605 of the ARRA within the geographic boundaries of their respective regions and with respect to requests by individual grant recipients.

Having established both a proper basis to specify the particular good required for this project and that using a domestically available alternative manufactured good would be inconsistent with the public interest of the Town, the Old Town Water District is hereby granted a waiver from the Buy American requirements of Section 1605(a) of Public Law 111-5. This waiver permits use of ARRA funds for the purchase of GreensandPlus filter media for two 12 foot diameter filters documented in the Town's waiver request submittal dated November 9, 2009. This supplementary information constitutes the detailed written justification required by Section 1605(c) for waivers based on a finding under subsection (b).

Authority: Pub. L. 111-5, section 1605.

Dated: February 12, 2010.
Ira Leighton,
Acting Regional Administrator, EPA Region 1—New England.

[FR Doc. 2010-3735 Filed 2-23-10; 8:45 am]

BILLING CODE 6560-50-P